DEPARTMENT OF THE INTERIOR

National Park Service

[NPS-WASO-NAGPRA-NPS0036432; PPWOCRADN0-PCU00RP14.R50000]

Notice of Inventory Completion: Colorado Springs Fine Arts Center at Colorado College, Colorado Springs, CO

AGENCY: National Park Service, Interior.

ACTION: Notice.

SUMMARY: In accordance with the Native American Graves Protection and Repatriation Act (NAGPRA), the Colorado Springs Fine Arts Center at Colorado College (previously the Fine Arts Center Taylor Museum and the Colorado Springs Fine Arts Center) has completed an inventory of human remains and associated funerary objects and has determined that there is no cultural affiliation between the human remains and associated funerary objects and any Indian Tribe. The human remains and associated funerary objects were removed from an unknown geographic location.

DATES: Disposition of the human remains and associated funerary objects in this notice may occur on or after September 22, 2023.

ADDRESSES: Michael Christiano, Colorado Springs Fine Arts Center at Colorado College, 30 West Dale Street, Colorado Springs, CO 80903, telephone (719) 477-4311, email mchristiano@coloradocollege.edu.

SUPPLEMENTARY INFORMATION: This notice is published as part of the National Park Service's administrative responsibilities under NAGPRA. The determinations in this notice are the sole responsibility of Colorado Springs Fine Arts Center at Colorado College. The National Park Service is not responsible for the determinations in this notice. Additional information on the determinations in this notice, including the results of consultation, can be found in the inventory or related records held by Colorado Springs Fine Arts Center at Colorado College.

Description

On an unknown date, human remains representing, at minimum, one individual were removed from an unknown geographic location. Sometime prior to January 1929, the human remains were acquired by Dr. Richard Warren Corwin (1852-1929). Corwin was a world traveler who made numerous trips to various locales across Europe, Asia, Africa, and Oceania. Corwin's nephew, Dr. William Senger, inherited Corwin's collections and donated them to Colorado College in 1940 and 1943. In 1987, Colorado College closed the Palmer Hall Museum, and the collection was loaned to several museums, including the Fine Arts Center Taylor Museum. Subsequently, the human remains became part of the collection of the Fine Arts Center Taylor Museum and in 2016, the Fine Arts Center Taylor Museum merged with Colorado College. The human remains (Colorado College catalog number 11 and 249)—two teeth—belong to a child. Additional teeth belonging to this individual (Colorado College catalog number 1, 2, 3, 4, 5, 7, 8, 9, 235, 236, 240, 242, 243, and 252) are currently missing from the museum's collections, but upon being located, they will be transferred together with the human remains listed in this notice. No associated funerary objects are present.

On an unknown date, human remains representing, at minimum, one individual were removed from an unknown geographic location. On April 5, 2022, an envelope marked “July 2019 Tooth and Bone Fragments” was discovered. The human remains (FIC 2022.77)—a tooth—belong to an adult. The two associated funerary objects are the femur fragment of a small adult mammal (176; FIC 2022.75) and a mammalian skeletal fragment (FIC 2022.76).

Pursuant to 43 CFR 10.16, the Secretary of the Interior may make a recommendation for a transfer of control of the culturally unidentifiable human remains and associated funerary objects. In June of 2023, the Colorado Springs Fine Arts Center at Colorado College requested that the Review Committee consider a proposal to transfer control of the human remains and associated funerary objects in this notice to the Hopi Tribe of Arizona and the Southern Ute Indian Tribe of the Southern Ute Reservation, Colorado. The Review Committee, acting pursuant to its responsibility under 25 U.S.C. 3006(c)(5), considered the request at its June 2023 meeting, and it recommended to the Secretary that the proposed transfer of control proceed. A July 2023 letter on behalf of the Secretary of Interior from the Designated Federal Official transmitted the Secretary's independent review and concurrence with the Review Committee that:

• The Colorado Springs Fine Arts Center at Colorado College consulted with every appropriate Indian Tribe or Native Hawaiian organization,

• None of the consulted and notified Indian Tribes and Native Hawaiian organizations objected to the proposed transfer of control, and

• The Colorado Springs Fine Arts Center at Colorado College may proceed with the agreed upon transfer of control of the culturally unidentifiable human remains and associated funerary objects to the Hopi Tribe of Arizona and the Southern Ute Indian Tribe of the Southern Ute Reservation, Colorado.

Transfer of control is contingent on the publication of a Notice of Inventory Completion in the Federal Register. This notice fulfills that requirement.

Determinations

Officials of the Colorado Springs Fine Arts Center at Colorado College have determined that:

• Pursuant to 25 U.S.C. 3001(9), the human remains described in this notice are Native American based on biological evidence and museum history.

• Pursuant to 25 U.S.C. 3001(9), the human remains described in this notice represent the physical remains of two individuals of Native American ancestry.

• Pursuant to 25 U.S.C. 3001(3)(A), the two objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Pursuant to 43 CFR 10.10(g)(2) and 10.16, the disposition of the human remains and associated funerary objects may be to the Hopi Tribe of Arizona and the Southern Ute Indian Tribe of the Southern Ute Reservation, Colorado.

Request for Disposition

Written requests for disposition of the human remains and associated funerary objects in this notice must be sent to the Responsible Official identified in ADDRESSES. Requests for disposition may be submitted by:

1. Any one or more of the Indian Tribes or non-Federally recognized Indian groups identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after September 22, 2023. If competing requests for disposition are received, Colorado Springs Fine Arts Center at Colorado College must determine the most appropriate requestor prior to disposition. Requests for joint disposition of the human remains and associated funerary objects are considered a single request and not competing requests. Colorado Springs Fine Arts Center at Colorado College is responsible for sending a copy of this notice to the Indian Tribes identified in this notice.

Authority: Native American Graves Protection and Repatriation Act, 25 U.S.C. 3003, and the implementing regulations, 43 CFR 10.9 and 10.11.

Dated: August 16, 2023.
Melanie O'Brien,
Manager, National NAGPRA Program.

[FR Doc. 2023-18132 Filed 8-22-23; 8:45 am]

BILLING CODE 4312-52-P